DEPARTMENT OF TRANSPORTATION

[Docket No. DOT-OST-2023-0049]

Opportunities and Challenges of Artificial Intelligence (AI) in Transportation; Request for Information; Extension of Comment Period

AGENCY: Department of Transportation (DOT).

ACTION: Notice; request for information (RFI); extension of comment period.

SUMMARY: On May 3, 2024, the Office of the Assistant Secretary for Research and Technology (OST-R) of the Department of Transportation (DOT) published in the Federal Register a request for information seeking comments on the potential applications of artificial intelligence (AI) in transportation, as well as emerging challenges and opportunities in creating and deploying AI technologies in applications across all modes of transportation. That request established a 60-day comment period closing on July 2, 2024. DOT is extending the public comment period until August 1, 2024.

DATES: The comment period for the notice published on May 3, 2024 (89 FR 36848) is extended. The due date for submitting comments is August 1, 2024.

ADDRESSES: Please submit any written comments to Docket Number DOT-OST-2024-0049 electronically through the Federal eRulemaking Portal at https://regulations.gov. Go to https://regulations.gov and select “Department of Transportation (DOT)” from the agency menu to submit or view public comments. Note that, except as provided below, all submissions received, including any personal information provided, will be posted without change and will be available to the public on https://www.regulations.gov. You may review DOT's complete Privacy Act Statement in the Federal Register published on April 11, 2000 (65 FR 19477) or at https://www.transportation.gov/privacy.

FOR FURTHER INFORMATION CONTACT: For further information contact Mr. Timothy A. Klein, Director, Technology Policy and Outreach, Office of the Assistant Secretary for Research and Technology (202-366-0075) or by email at timothy.klein@dot.gov.

SUPPLEMENTARY INFORMATION: DOT published a request for information in the Federal Register on May 3, 2024 (89 FR 36848) seeking comments on the potential applications of artificial intelligence (AI) in transportation, as well as emerging challenges and opportunities in creating and deploying AI technologies in applications across all modes of transportation. The public comment period is extended to August 1, 2024. All other information in the notice from May 3, 2024 remains the same.

Confidential Business Information: Do not submit information disclosure of which is restricted by statute, such as trade secrets and commercial or financial information (hereinafter referred to as Confidential Business Information “CBI”) to Regulations.gov. Comments submitted through Regulations.gov cannot be claimed as CBI. Comments received through the website will waive any CBI claims for the information submitted.

Issued in Washington, DC, on June 26, 2024.
Robert C. Hampshire,
Deputy Assistant Secretary for Research and Technology.

[FR Doc. 2024-14436 Filed 6-28-24; 8:45 am]

BILLING CODE 4910-9X-P